DEPARTMENT OF HOMELAND SECURITY

Policy Directorate; Homeland Security Advisory Council—Secure Borders and Open Doors Advisory Committee

[Docket No. DHS-2006-0072]

AGENCY: Policy Directorate, DHS.

ACTION: Notice of Federal Advisory Committee Subcommittee Meeting.

SUMMARY: The Secure Borders and Open Doors Advisory Committee, a subcommittee of the Homeland Security Advisory Council, will meet to receive progress reports on various programs and initiatives and to hold member deliberations. In the public interest and in an attempt to maximize openness, the Department of Homeland Security (DHS) is opening part of this meeting to the public even though Federal advisory committee subcommittee meetings are not required to be open. The meeting will be coordinated closely with the Department of State.

DATES: Wednesday, December 6, 2006.

ADDRESSES: The open portion of the meeting will be held at the Hilton Washington, 1919 Connecticut Avenue, NW., Washington, DC in the George Washington Room located on the Concourse Level from 1 p.m. to 2:30 p.m.

If you desire to submit written comments, they must be submitted by December 1, 2006. Comments must be identified by DHS-2006-0072 and may be submitted by one of the following methods:

• Federal eRulemaking Portal: http://www.regulations.gov. Follow the instructions for submitting comments.

• E-mail: HSAC@dhs.gov. Include docket number in the subject line of the message.

• Fax: (202) 282-9207.

• Mail: Kezia Williams, Homeland Security Advisory Council, Department of Home Security, Washington, DC 20528.

Instructions: All submissions received must include the words “Department of Homeland Security” and DHS-2006-0072, the docket number for this action. Comments received will be posted without alteration at www.regulations.gov, including any personal information provided.

Docket: For access to the docket to read background documents or comments received by the DHS Homeland Security Advisory Council, go to http://www.regulations.gov.

FOR FURTHER INFORMATION CONTACT: Kezia Williams, Homeland Security Advisory Council, Washington, DC 20528, (202) 447-3135, HSAC@dhs.gov.

SUPPLEMENTARY INFORMATION: The Secure Borders and Open Doors Advisory Committee (“the committee”) is a subcommittee of the Homeland Security Advisory Council (HSAC). The committee's mission is to guide the current and future development of solutions to keep America secure while facilitating travel. The committee reports directly to the HSAC.

At the upcoming meeting, the committee will receive a progress report on various programs and initiatives within the Rice-Chertoff Initiative (“the Initiative”). The Initiative is a joint effort between the Departments of Homeland Security and State to allow regular outreach to the travel, business and academic communities to take their views into account, and to identify “best practices” when developing travel policies. The committee will also hold deliberations and discussions among members, including discussions regarding administrative matters. The committee will report its findings and conclusions at the next formal meeting of the HSAC.

Pursuant to 41 CFR 102-3.35 “the requirements of the [Federal Advisory Committee] Act and the policies of this Federal Advisory Committee Management part do not apply to subcommittees of advisory committees that report to a parent advisory committee and not directly to a Federal officer or agency. However, this section does not preclude an agency from applying any provision of the Act and this part to any subcommittee of an advisory committee in any particular instance.” Thus, while notice of the instant meeting need not be published in the Federal Register, nor the meeting itself opened to the public, DHS believes that, in the interest of openness and good government, the public should be informed of the meeting, and the meeting should be open to the extent practicable.

Public Attendance: A limited number of members of the public may register to attend the public session on a first-come, first-served basis per the procedures that follow. Security requires that any member of the public who wishes to attend the public session provide his or her name and date of birth no later than 5 p.m. E.S.T., Friday, December 1, 2006, to Kezia Williams or an Executive Staff Member of the HSAC via e-mail at HSAC@dhs.gov or via phone at (202) 447-3135. Photo identification will be required for entry into the public session, and everyone in attendance must be present and seated by 12:50 p.m.

Information on Services for Individuals with Disabilities: For information on facilities or services for individuals with disabilities, or to request special assistance at the meeting, contact Kezia Williams as soon as possible.

Dated: November 22, 2006.
Candace H. Stoltz,
Director, Private Sector Senior Advisory Committee.

[FR Doc. 06-9443 Filed 11-28-06; 8:45 am]

BILLING CODE 4410-10-M